DEPARTMENT OF THE INTERIOR

Fish and Wildlife Service

Information Quality Guidelines Pursuant to Section 515 of the Treasury and General Government Appropriations Act for Fiscal Year 2001

AGENCY: Fish and Wildlife Service, Interior.

ACTION: Notice of availability.

SUMMARY: A notice published by the Office of Management and Budget (OMB) in the Federal Register directed Federal agencies to issue and implement guidelines to ensure and maximize the quality, objectivity, utility, and integrity of Government information disseminated to the public. We, the U.S. Fish and Wildlife Service (FWS), are issuing these final Information Quality Guidelines to comply with the OMB requirement.

DATES: These guidelines are effective October 1, 2002.

ADDRESSES: To obtain a copy of the Fish and Wildlife Service Quality Guidelines please contact the Science Advisor, U.S. Fish and Wildlife Service, Office of the Assistant Director—External Affairs, 1849 C Streets, NW., Mail Stop 301, Washington, DC 20240-0001, or by calling (202) 208-6541, or via e-mail to scienceadvisor@fws.gov. In addition, these guidelines are available on the Service website (www.fws.gov).

FOR FURTHER INFORMATION CONTACT: Science Advisor, (202) 208-6541.

SUPPLEMENTARY INFORMATION: A notice published by the Office of Management and Budget (OMB) in the Federal Register, dated January 3, 2002 (67 FR 369), and re-issued February 22, 2002 (67 FR 8451), directed Federal agencies to issue and implement guidelines to ensure and maximize the quality, objectivity, utility, and integrity of Government information disseminated to the public. On May 24, 2002, the Department of the Interior published a Federal Register notice providing the web site where the proposed Departmental Information Quality Guidelines may be reviewed. On August 5, 2002, the Department of the Interior published a Notice of Availability in the Federal Register of the proposed bureau specific information quality guidelines for public comment. Comments were received from a variety of sources and were considered in the preparation of this guidance. We are issuing these final Information Quality Guidelines in order to comply with Section 515 and the OMB direction.

FWS, which includes Headquarters and 7 Regional Offices, disseminates a wide variety of information to the public regarding the nation's fish and wildlife resources, habitat conservation and endangered species programs. The disseminated information includes organizational and management information, programs and services products, research and statistical reports, policy and regulatory information, and general reference material.

Dated: October 4, 2002.
Marshall P. Jones, Jr.,
Deputy Director.

[FR Doc. 02-26484 Filed 10-17-02; 8:45 am]

BILLING CODE 4310-55-M